DEPARTMENT OF HEALTH AND HUMAN SERVICES

Administration for Children and Families

Proposed Information Collection Activity; Comment Request

Title: Evaluation of Tribal Health Profession Opportunity Grants (HPOG).

OMB No.: New Collection.

Billing Accounting Code (BAC): 418408.

Description: The Administration for Children and Families (ACF) is proposing information collection activities as part of the Evaluation of the Tribal Health Profession Opportunity Grants (HPOG) (HHS-2010-ACF-OFA-FY-0124). Through this information collection, ACF seeks to conduct a comprehensive process and outcome evaluation to provide documentation and lessons learned about diverse programmatic approaches to health professions trainings for Tribal populations.

The goals of the Tribal HPOG evaluation are to: (1) Provide an in-depth, systematic analysis of program structure, implementation and outcomes of the sites served by the five Tribal HPOG grantees funded in FFY 2010, and (2) compare these data within and across grantees to generate hypotheses about the effectiveness of different program approaches for Tribal populations.

Both of these goals require collecting information from Tribal HPOG grantees and other program stakeholders on an annual basis for three years. The information collection will include data gathered through in-person and telephone interviews and focus groups. Program operations data related to this effort will be collected through a Web-based performance management system under a separate information collection (the Federal Register Notice for this information collection was published in Vol. 76, No. 18, January 27, 2011, page 4912).

Respondents

Respondents to the Grantee and Partner Administrative Staff interview will be the administrators of the Tribal HPOG program, workforce development and TANF agencies, public and private university-based partners, and not-for profit organizations.

Respondents to the Program Implementation Staff interview will be instructors, trainers, and providers of program or supportive services.

Respondents to the Program Participant focus groups or interviews will be current program participants. Interviews will be conducted in lieu of focus groups with program participants at secondary implementation sites (additional locations where the Tribal HPOG program are being implemented) in Year 2.

Respondents to the Employers interview will be local or regional employers at public or private companies or organizations that are partnering with the Tribal HPOG program or have employed program participants.

Respondents to the Program Completers interview will be program completers.

Respondents to the Program Non-completers interview will be individuals who did not complete the programs.

Annual Burden Estimates
Instrument | Annual number of respondents | Number of responses per respondent | Average burden hours per response | Total annual burden hours
Grantee and partner administrative staff interview | 35 | 1 | 1 | 35
Program implementation staff interview | 120 | 1 | 1.5 | 180
Program participant focus groups | 108 | 1 | 1.5 | 162
Employer interview | 60 | 1 | .75 | 45
Program completers interview | 67 | 1 | 1 | 67
Program non-completers interview | 20 | 1 | .30 | 6
Total Estimated Annual Burden |  |  |  | 495

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 11, 2011.
Seth F. Chamberlain,
Reports Clearance Officer.

[FR Doc. 2011-9222 Filed 4-15-11; 8:45 am]

BILLING CODE 4184-01-M